COMMITTEE FOR PURCHASE FROM PEOPLE WHO ARE BLIND OR SEVERELY DISABLED

Procurement List Proposed Additions

AGENCY: Committee for Purchase From People Who Are Blind or Severely Disabled.

ACTION: Proposed additions to the Procurement List.

SUMMARY: The Committee is proposing to add to the Procurement List products and services to be furnished by nonprofit agencies employing persons who are blind or have other severe disabilities.

Comments Must be Received On or Before: July 15, 2007.

ADDRESSES: Committee for Purchase From People Who Are Blind or Severely Disabled, Jefferson Plaza 2, Suite 10800, 1421 Jefferson Davis Highway, Arlington, Virginia 22202-3259.

For Further Information Or to Submit Comments Contact: Kimberly M. Zeich, Telephone: (703) 603-7740, Fax: (703) 603-0655, or email CMTEFedReg@jwod.gov.

SUPPLEMENTARY INFORMATION: This notice is published pursuant to 41 U.S.C 47(a)(2) and 41 CFR 51-2.3. Its purpose is to provide interested persons an opportunity to submit comments on the proposed actions.

If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Ballpoint Pen, Stick

NSN: 7520-00-NIB-1793—Round Stick Pen “Alpha Basic” Red

NSN: 7520-00-NIB-1794—Antimicrobal Round Stick Pen “Alpha Basic” Black

NSN: 7520-00-NIB-1795—Antimicrobal Round Stick Pen “Alpha Basic” Blue

NSN: 7520-00-NIB-1796—Round Stick Pen “Alpha Basic” Black w/ Grip

NSN: 7520-00-NIB-1797—Round Stick Pen “Alpha Basic” Blue w/ Grip

NSN: 7520-00-NIB-1798—Round Stick Pen “Alpha Basic” Red w/ Grip

NPA: Alphapointe Association for the Blind, Kansas City, MO

Contracting Activity: General Services Administration, Region 2, Office Supplies & Paper Products Acquisition Ctr, New York, NY

Coverage: A-List—for the total Government requirement as aggregated by the General Services Administration

Glow Plug

NSN: 2920-01-456-6985

NPA: Shares Inc., Shelbyville, IN

Contracting Activity: Defense Supply Center Columbus, Columbus, OH

Coverage: C-List for the requirements of the Defense Supply Center Columbus, Columbus, OH

Inkjet Printer Cartridge

NSN: 7510-00-NIB-0780—compatible with Canon Part No. BCI-3ePC/6PC. Cyan

NSN: 7510-00-NIB-0781—compatible with Canon Part No. BCI-3ePM/6PM Magenta

NSN: 7510-00-NIB-0782—compatible with Canon Part No. BCI-15BK. Black

NSN: 7510-00-NIB-0783—compatible with Canon Part No. BCI-21/24CL. Tri-color

NSN: 7510-00-NIB-0784—compatible with Epson Part No. T018201. Tri-color

NSN: 7510-00-NIB-0785—compatible with Epson Part No. T029201. Tri color

NSN: 7510-00-NIB-0786—compatible with Epson Part No. T041020. Tri-color.

NSN: 7510-00-NIB-0787—compatible with Epson Part No. T044120. Black

NSN: 7510-00-NIB-0788—compatible with Epson Part No. T044220. Cyan

NSN: 7510-00-NIB-0789—compatible with Epson Part No. T044320. Magenta

NSN: 7510-00-NIB-0790—compatible with Epson Part No. T044420. Yellow

NSN: 7510-00-NIB-0791—compatible with Epson Part No. T048120. Black

NSN: 7510-00-NIB-0792—compatible with Epson Part No. T048220. Cyan

NSN: 7510-00-NIB-0793—compatible with Epson Part No. T048320. magenta

NSN: 7510-00-NIB-0794—compatible with Epson Part No. T048420. yellow

NSN: 7510-00-NIB-0795—compatible with Epson Part No. T048520. Light Cyan

NSN: 7510-00-NIB-0796—compatible with Epson Part No. T048620. Light Magenta

NPA: Alabama Industries for the Blind, Talladega, AL

Contracting Activity: General Services Administration, Region 2, Office Supplies & Paper Products Acquisition Ctr, New York, NY

Coverage: A-List—for the total Government requirement as aggregated by the General Services Administration

Maintenance Record Holder

NSN: 8105-00-190-9824—Maintenance Record Holder

NPA: Bestwork Industries for the Blind, Inc., Runnemede, NJ

Contracting Activity: General Services Administration, Region 2, Office Supplies & Paper Products Acquisition Ctr, New York, NY

Coverage: B-List—for the broad Government requirement as specified by the General Services Administration

Dry Erase Starter Kit

NSN: 7520-00-NIB-1158—Dry Erase Starter Kit

NPA: Dallas Lighthouse for the Blind, Inc., Dallas, TX

Contracting Activity: General Services Administration, Region 2, Office Supplies & Paper Products Acquisition Ctr, New York, NY

Coverage: A-List—for the total Government requirement as aggregated by the General Services Administration

Spices

NSN: 8950-00-NSH-0080—Chili Powder 10 lb.

NSN: 8950-00-NSH-0081—Cinnamon, Ground 10 lb.

NSN: 8950-00-NSH-0082—Garlic Powder 10 lb.

NSN: 8950-00-NSH-0083—Paprika 10 lb.

NSN: 8950-00-NSH-0084—Pepper, Black, Ground 10 lb.

NPA: Continuing Developmental Services, Inc., Fairport, NY

Contracting Activity: Federal Correctional Institution, Bureau of Prisons, Elkton, OH

Coverage: C-List—for the requirements of the Federal Correctional Institution, Bureau of Prisons, Elkton, OH

Street Broom

NSN: 7920-00-NIB-0461

NPA: New York City Industries for the Blind, Inc., Brooklyn, NY

Contracting Activity: General Service Administration, Southwest Supply Center, Fort Worth, TX

Coverage: B-List—for the broad Government requirement as specified by the General Services Administration

Services

Service Type/Location: Custodial Services, David W. Dyer Federal Building & Courthouse, 300 NE First Ave, Miami, FL. U.S. Courthouse, 301 North Miami Ave, Miami, FL.

NPA: Goodwill Industries of South Florida, Inc., Miami, FL

Contracting Activity: General Services Administration, Public Building Service, Atlanta, GA

Service Type/Location: Document Destruction, Internal Revenue Service, 208 Sunset Drive, Johnson City, TN.

NPA: Goodwill Industries-Knoxville, Inc., Knoxville, TN

Contracting Activity: U.S. Department of Treasury, Internal Revenue Service, Chamblee, GA

Service Type/Location: Grounds Maintenance, San Juan Customhouse, #1 La Puntilla Street, San Juan, PR.

NPA: The Corporate Source, Inc., New York, NY

Contracting Activity: Department of Homeland Security, U.S. Customs and Border Protection, Indianapolis, IN

Patrick Rowe,
Deputy Executive Director.

[FR Doc. E7-11568 Filed 6-14-07; 8:45 am]

BILLING CODE 6353-01-P